DEPARTMENT OF THE INTERIOR

Bureau of Land Management

[LLNVS01000 L5105.0000.EA0000 LVRCF1907120 241A 19XMO# 4500140975]

Notice of Temporary Closure of Public Land in Clark County, Nevada

AGENCY: Bureau of Land Management, Interior.

ACTION: Notice of temporary closure.

SUMMARY: The Las Vegas Field Office announces the temporary closure of certain public lands under its administration. The Off-Highway Vehicle (OHV) race area in the Jean/Roach Dry Lakes Special Recreation Management Area is used by OHV recreationists, and the temporary closure is needed to limit their access to the race area and to minimize the risk of potential collisions with spectators and racers during the 2020 Mint 400 Off-Highway Vehicle Race.

DATES: The temporary closure for the 2020 Mint 400 will go into effect at 12:01 a.m. on March 6, 2020 and will remain in effect until 11:59 p.m. on March 7, 2020.

ADDRESSES: The temporary closure order, communications plan, and map of the closure area will be posted at the BLM Las Vegas Field Office, 4701 North Torrey Pines Drive, Las Vegas, Nevada 89130 and on the BLM website: www.blm.gov. These materials will also be posted at the access points to the Jean/Roach Dry Lakes Special Recreation Management Area.

FOR FURTHER INFORMATION CONTACT: Kenny Kendrick, Outdoor Recreation Planner, telephone (702) 515-5073, or email Kkendrick@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Las Vegas Field Office announces the temporary closure of certain public lands under its administration. This action is being taken to help ensure public safety during the official permitted running of the 2020 Mint 400.

The public lands affected by this closure are described as follows:

Mount Diablo Meridian, Nevada

T. 25 S., R. 59 E.,

Sec. 23, those portions of the S½ lying southeasterly of the southeasterly right-of-way boundary of State Route 604, excepting CC-0360;

Sec. 24, excepting CC-0360;

Sec. 25;

Sec. 26, E½, excepting CC-0360;

Sec. 35, lots 4, 5, and 10, excepting CC-0360, and E½;

Sec. 36.

T. 26 S., R. 59 E.,

Sec. 1;

Sec. 2, lots 1 and 2, S½NE¼, E½SW¼, and SE¼;

Secs. 11 thru 14;

Sec. 22, lot 1, excepting CC-0360, NE¼NE¼, S½NE¼, excepting CC-0360, and SE¼;

Secs. 23 thru 26;

Sec. 27, lots 4, 5, and 8, excepting CC-0360, NE¼, SE¼SW¼, and SE¼;

Sec. 34, lot 1, excepting CC-0360, NE¼, NE¼NW¼, and SE¼;

Secs. 35 and 36.

T. 27 S., R. 59 E.,

Secs. 1 and 2;

Secs. 3 and 4, excepting CC-0360;

Sec. 5, those portions of the E½ lying easterly of the easterly right-of-way boundary of State Route 604;

Sec. 9, NE¼NE¼, excepting CC-0360 and W½SW¼;

Sec. 10, N½NE¼, SE¼NE¼, and N½NW¼;

Secs. 11 thru 17 and secs. 21 thru 24.

T. 24 S., R. 60 E.,

Sec. 13;

Sec. 14, NE¼, those portions of the NW¼NW¼ lying southeasterly of the southeasterly right-of-way boundary of State Route 604, S½NW¼, and S½;

Sec. 15, those portions of the SE¼NW¼ and S½ lying southeasterly of the southeasterly right-of-way boundary of State Route 604;

Sec. 16, those portions of the SE¼SE¼ lying southeasterly of the southeasterly right-of-way boundary of State Route 604;

Sec. 20, those portions of the SE¼SE¼ lying southeasterly of the southeasterly right-of-way boundary of State Route 604;

Sec. 21, those portions lying southeasterly of the southeasterly right-of-way boundary of State Route 604;

Secs. 22 thru 28;

Sec. 29, those portions of the NE¼ and S½ lying southeasterly of the southeasterly right-of-way boundary of State Route 604;

Sec. 31, those portions of the E½ lying southeasterly of the southeasterly right-of-way boundary of State Route 604, excepting CC-0360;

Sec. 32, those portions lying southeasterly of the southeasterly right-of-way boundary of State Route 604;

Secs. 33 thru 36.

T. 25 S., R. 60 E., those portions lying southeasterly of the southeasterly right-of-way boundary of State Route 604, excepting CC-0360.

T. 26 S., R. 60 E.,

Secs. 1 thru 24 and secs. 27 thru 34.

T. 27 S., R. 60 E.,

Secs. 3 thru 10 and secs. 15 thru 22.

T. 24 S., R. 61 E.,

Secs. 16 thru 21 and secs. 28 thru 33.

T. 25 S., R. 61 E.,

Secs. 4 thru 9, secs. 16 thru 21, and secs. 28 thru 33.

T. 26 S., R. 61 E.,

Secs. 6 and 7;

Sec. 8, SW¼NW¼ and NW¼SW¼, excepting those portions affected by Public Law 107-282.

The area described contains 104,226 acres, more or less, according to the BLM National PLSS CadNSDI and the official plats of the surveys of the said land, on file with the BLM.

Roads leading into the public lands under the temporary closure will be posted to notify the public of the closure. The closure area includes the Jean Dry Lake Bed and is bordered by Hidden Valley to the north, the McCullough Mountains to the east, the California State line to the south and Nevada State Route 604 to the west. Under the authority of Section 303(a) of the Federal Land Policy and Management Act of 1976 (43 U.S.C. 1733(a)), 43 CFR 8360.0-7 and 43 CFR 8364.1, the BLM will enforce the following rules in the area described above:

The entire area as listed in the legal description above is closed to all vehicles and personnel except law enforcement, emergency vehicles, event personnel, event participants and ticketed spectators. Access routes leading to the closed area are closed to vehicles. No vehicle stopping or parking in the closed area except for designated areas will be permitted. Event participants and spectators are required to remain within designated pit and spectator areas only.

The following restrictions will be in effect for the duration of the closure to ensure public safety of participants and spectators. Unless otherwise authorized, the following activities within the closure area are prohibited:

• Camping.

• Possession and/or consumption any alcoholic beverage unless the person has reached the age of 21 years.

• Discharging, or use of firearms or other weapons.

• Possession and/or discharging of fireworks.

• Allowing any pet or other animal in their care to be unrestrained at any time. Animals must be on a leash or other restraint no longer than 3 feet.

• Operation of any vehicle including ALL Terrain Vehicles (ATV), motorcycles, Utility Terrain Vehicles, golf carts, and any OHV which is not legally registered for street and highway operation, including operation of such a vehicle in spectator viewing areas.

• Parking any vehicle in violation of posted restrictions, or in such a manner as to obstruct or impede normal or emergency traffic movement or the parking of other vehicles, create a safety hazard, or endanger any person, property or feature. Vehicles so parked are subject to citation, removal and impoundment at the owner's expense.

• Operating a vehicle through, around or beyond a restrictive sign, barricade, fence or traffic control barrier or device.

• Failing to maintain control of a vehicle to avoid danger to persons, property, resources or wildlife.

• Operating a motor vehicle without due care or at a speed greater than 25 mph.

Signs and maps directing the public to designated spectator areas will be provided by the event sponsor.

Exceptions: Temporary closure restrictions do not apply to activities conducted under contract with the BLM, agency personnel monitoring the event, or activities conducted under an approved plan of operation. Authorized users must have in their possession, a written permit or contract from BLM signed by the authorized officer.

Enforcement: Any person who violates this temporary closure may be tried before a United States Magistrate and fined in accordance with 18 U.S.C. 3571, imprisoned no more than 12 months under 43 U.S.C. 1733(a) and 43 CFR 8360.0-7, or both. In accordance with 43 CFR 8365.1-7, State or local officials may also impose penalties for violations of Nevada law.

(Authority: 43 CFR 8360.0-7 and 8364.1)

Shonna Dooman,
Field Manager—Las Vegas Field Office.

[FR Doc. 2020-03731 Filed 2-24-20; 8:45 am]

BILLING CODE 4310-HC-P